DEPARTMENT OF THE INTERIOR

National Park Service

[NPS-WASO-NAGPRA-NPS0033013; PPWOCRADN0-PCU00RP14.R50000]

Notice of Inventory Completion: Florida State University, Department of Anthropology, Tallahassee, FL

AGENCY: National Park Service, Interior.

ACTION: Notice.

SUMMARY: The Department of Anthropology, Florida State University (FSU) has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains, and funerary objects should submit a written request to the Department of Anthropology at FSU. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology at FSU at the address in this notice by December 23, 2021.

FOR FURTHER INFORMATION CONTACT: Dr. Geoffrey Thomas, Florida State University, Department of Anthropology, 60 North Woodward Avenue, Tallahassee, FL 32306, telephone (850) 644-8156, email gpthomas@fsu.edu.

SUPPLEMENTARY INFORMATION: Notice is here given in accordance with the Native American Graves Protection and Repatriation Act (NAGPRA), 25 U.S.C. 3003, of the completion of an inventory of human remains and associated funerary objects under the control of Florida State University, Department of Anthropology, Tallahassee, FL. The human remains and associated funerary objects were removed from Gadsden County, Okaloosa County, and Walton County, FL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology at FSU professional staff in consultation with representatives of the Alabama-Quassarte Tribal Town; Jena Band of Choctaw Indians; Kialegee Tribal Town; Miccosukee Tribe of Indians; Mississippi Band of Choctaw Indians; Poarch Band of Creek Indians [previously known as the Poarch Band of Creeks, and as the Poarch Band of Creek Indians of Alabama]; Seminole Tribe of Florida [previously listed as Seminole Tribe of Florida (Dania, Big Cypress, Brighton, Hollywood, & Tampa Reservations)]; The Choctaw Nation of Oklahoma; The Muscogee (Creek) Nation; Thlopthlocco Tribal Town; and the Tunica-Biloxi Indian Tribe (hereafter referred to as “The Tribes”).

History and Description of the Remains

At an unknown time, human remains representing, at minimum, 16 individuals were removed from the Scotland site (8GD94), in Gadsen County, FL, by Calvin Jones. There is no information regarding how or when the human remains from this site came into the possession or control of Florida State University. The State of Florida Master Site File indicates that Calvin Jones conducted investigations at the site during a salvage operation and that the site has been linked to Weeden Island, Swift Creek, and Ft. Walton cultural phases based on unassociated sherds found there. The human remains are commingled and fragmentary. Among them are both the single designated burial (#542) of a probable male 35-50 years old and the remains of a possible female. No known individuals were identified. No associated funerary objects are present.

In the 1960s, human remains representing, at minimum, 38 individuals were removed from Fort Walton Mound (8OK6M), in Okaloosa County, FL, by Charles Fairbanks while he was associated with FSU. This site has a long history of excavation, including one carried out by C.B. Moore in 1901. Although the site is listed as 8OK6M at Florida State University, according to currently available information, it is the same site as 8OK6 listed in state files. (The M suffix was requested by Yulee Lazarus in 1968 to distinguish the large Fort Walton Temple Mound, from the nearby shell middens.) Based on several types of sherds discovered during the excavation by Fairbanks, it was deduced that the site contained occupations from the Fort Walton period through Deptford, Santa-Rosa, Swift Creek, and Weeden Island phases. The majority of the human remains belong to adult-aged individuals. A single subadult—likely late teens—is also present. No known individuals have been identified. The 33 associated funerary objects include 23 plain, two stamped, and eight incised ceramic sherds.

Between 1956 and 1958, human remains representing, at minimum, nine individuals were removed from the Bell Site (8OK19), in Okaloosa County, FL. In 1956, part of this collection was brought to Florida State University after erosion exposure from Hurricane Flossie washed “thousands of sherds” into Choctawhatchee Bay (according to the State of Florida Master Site File). In 1958, this site was excavated by Charles Fairbanks and W.C. Lazarus and was determined to be of Fort Walton, Santa-Rosa, Swift Creek, and Weeden Island cultural complexes. Two of the individuals are sub-adults, and the other seven are adults; all are of indeterminate sex. No known individuals have been identified. No associated funerary objects present.

In 1959, human remains representing, at minimum, three individuals were recovered from the Chambless Site (8OK35), in Okaloosa County, FL, and donated to The Florida State University by the property owner. As the recovered materials came from disturbed backfill soil, their context is unknown among the human remains. According to the State of Florida Master Site File, broken vessels recovered by the landowner were retained by W.C. Lazarus for preservation and restoration at the Fort Walton Temple Museum, Destin, FL. Those ceramic vessels are classified as Fort Walton phase. The human remains belong to one male most likely 30-35 years old, one female most likely 30-35 years old, and one individual of unknown age and sex. No known individuals have been identified. No associated funerary objects are present.

In the 1960s, human remains representing, at minimum, eight individuals were removed from the Johnson Site (8WL30), in Walton County, FL, by W.C. Lazarus and J.M. Johnson. Most of the materials collected were brought to FSU at that time. (A vessel reportedly recovered during the investigation of the site remains in the possession of J.M. Johnson.) Of the eight individuals, one is probably female 35-50 years old, and at least two are sub-adults. No known individuals were identified. No associated funerary objects are present. Cultural phase determined to be Fort Walton based on a ceramic analysis.

Determinations Made by the Department of Anthropology, Florida State University

Officials of the Department of Anthropology, Florida State University have determined that:

• Pursuant to 25 U.S.C. 3001(9), the human remains described in this notice represent the physical remains of 74 individuals of Native American ancestry.

• Pursuant to 25 U.S.C. 3001(3)(A), the 33 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Geoffrey Thomas, Florida State University, Department of Anthropology, 60 North Woodward Avenue, Tallahassee, FL 32306, telephone (850) 644-8156, email gpthomas@fsu.edu, by December 23, 2021. After that date, if no additional requestors have come forward, transfer of control of the human remains and associated funerary objects to The Tribes may proceed.

The Department of Anthropology, Florida State University is responsible for notifying The Tribes that this notice has been published.

Dated: November 17, 2021.
Melanie O'Brien,
Manager, National NAGPRA Program.

[FR Doc. 2021-25522 Filed 11-22-21; 8:45 am]

BILLING CODE 4312-52-P